DEPARTMENT OF TRANSPORTATION

Federal Aviation Administration

14 CFR Part 39

[Docket No. FAA-2013-0862; Directorate Identifier 2012-NM-098-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model FALCON 2000 and FALCON 2000EX airplanes. This proposed AD was prompted by a determination that new center of gravity (CG) limits applicable during takeoff with a Slat/Flap SF2 setting are necessary. This proposed AD would require revising the airplane flight manual (AFM) to include procedures to advise the flightcrew of the new CG limits. We are proposing this AD to prevent an erratic takeoff path and consequent reduced controllability of the airplane.

DATES: We must receive comments on this proposed AD by November 18, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Dassault service information identified in this proposed AD, contact Dassault Falcon Jet, P.O. Box 2000, South Hackensack, NJ 07606; telephone 201-440-6700; Internet http://www.dassaultfalcon.com. For Aviation Partners Inc. service information identified in this proposed AD, contact Aviation Partners Inc., 7299 Perimeter Road South, Seattle, WA 98108; telephone 800-946-4638; Internet http://www.aviationpartners.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2013-0862; Directorate Identifier 2012-NM-098-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0081, dated May 14, 2012 (referred to after this as the Mandatory Continuing Airworthiness Information, or “the MCAI”), to correct an unsafe condition for the specified products. The MCAI states:

During a test flight on a Falcon 2000EX equipped with winglets (commercial designation Falcon 2000LX), performed for the certification of a maximum takeoff weight increase, the aeroplane took off and experienced unsatisfactory control characteristics under specific combined conditions of loading, slat-flap setting and horizontal tailplane trim setting. The weight and the Center of Gravity (CG) of the aeroplane during that test flight were within the already certified limits.

This condition, if not corrected, could result in an erratic take-off path and reduced control of the aeroplane, which could ultimately jeopardize the aeroplane safe flight.

To address this condition, Dassault Aviation developed Change Proposal (CP) 036 to the Airplane Flight Manual (AFM), which introduced new CG limits which are applicable during take-off with Slat/Flap SF2 setting.

Since issuance of EASA PAD 11-077, Dassault Aviation issued a normal AFM revision currently at revision 15, which incorporates Dassault Aviation CP 036.

For the reasons described above, this [EASA] AD requires amendment of the applicable AFM to ensure that the flight crew applies the appropriate operational procedure.

You may obtain further information by examining the MCAI in the AD docket.

Relevant Service Information

Dassault Aviation has issued Revision 15 to the Falcon 2000EX EASy, 2000DX, and 2000LX Airplane Flight Manual (AFM) DGT88898, dated October 30, 2011 (for Model 2000EX airplanes).

Aviation Partners Inc. has issued AFM Supplement APF2-0601, Code 002, Revision 3, dated June 1, 2012 (for Model FALCON 2000 airplanes), and AFM Supplement APF2-0601, Code 001, Revision 4, dated June 1, 2012 (for Model FALCON 2000EX airplanes).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The applicability in the MCAI specifies Dassault Aviation Model Falcon 2000EX airplanes on which Dassault Aviation modification M2848 or Dassault Aviation Technical Instructions TI-F2000EX-M2846-ME or TI-F2000EX-M3118/M2846-ME has been embodied for the installation of winglets; including serial number 602. However, the applicability in this proposed AD would also include Model FALCON 2000 and Model FALCON 2000EX airplanes modified by Aviation Partners Incorporated Supplemental Type Certificate (STC) Number ST01987SE (installation of winglets). We have determined that this group of airplanes is subject to the same unsafe condition as the airplanes identified in the MCAI. In addition, the applicability in this AD would exclude Model FALCON F2000EX airplanes on which Dassault Modification M3254 or Dassault Service Bulletin F2000EX-300, Revision 1, dated May 17, 2013, has been embodied. We have determined that this group of airplanes is not subject to the same unsafe condition as the airplanes identified in the MCAI.

Although the MCAI does not include revising the AFM by incorporating the CG limits in Aviation Partners AFM Supplement APF2-0601, Code 002, Revision 3, dated June 1, 2012 (for Model FALCON 2000 airplanes), and AFM Supplement APF2-0601, Code 001, Revision 4, dated June 1, 2012 (for Model FALCON 2000EX airplanes); that requirement is included in this proposed AD.

These differences have been coordinated with EASA.

Costs of Compliance

Based on the service information, we estimate that this proposed AD would affect about 69 products of U.S. registry. We also estimate that it would take about 1 work-hour per product to comply with the basic requirements of this proposed AD. The average labor rate is $85 per work-hour. Based on these figures, we estimate the cost of the proposed AD on U.S. operators to be $5,865, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault Aviation: Docket No. FAA-2013-0862; Directorate Identifier 2012-NM-098-AD.

(a) Comments Due Date

We must receive comments by November 18, 2013.

(b) Affected ADs

None.

(c) Applicability

This AD applies to Dassault Aviation airplanes; certificated in any category; as identified in paragraphs (c)(1) and (c)(2) of this AD; except Model FALCON F2000EX airplanes on which Dassault Modification M3254 or Dassault Service Bulletin F2000EX-300, Revision 1, dated May 17, 2013, has been embodied.

(1) Model FALCON 2000EX airplanes on which Dassault Aviation modification M2848 or Dassault Aviation Technical Instructions TI-F2000EX-M2846-ME or TI-F2000EX-M3118/M2846-ME has been embodied for the installation of winglets; including serial number 602.

(2) Model FALCON 2000 and FALCON 2000EX airplanes modified by Aviation Partners Incorporated Supplemental Type Certificate (STC) ST01987SE (installation of winglets).

(d) Subject

Air Transport Association (ATA) of America Code 27, Flight Controls.

(e) Reason

This AD was prompted by a determination that new center of gravity (CG) limits applicable during takeoff with a Slat/Flap SF2 setting are necessary. We are issuing this AD to prevent an erratic takeoff path and consequent reduced controllability of the airplane.

(f) Compliance

You are responsible for having the actions required by this AD performed within the compliance times specified, unless the actions have already been done.

(g) Airplane Flight Manual (AFM) Revision

Within 14 days after the effective date of this AD: Revise the AFM by incorporating the CG limits in sub-sections 1-050-05C, Issue 2, and 1-050-05D, Issue 1, of the Weights and Loading Limitations section of the Dassault Aviation Falcon 2000EX EASy, 2000DX, and 2000LX AFM DGT88898, Revision 15, dated October 30, 2012 (for airplanes identified in paragraph (c)(1) of this AD); or by incorporating the CG limits in Aviation Partners Inc. AFM Supplement APF2-0601, Code 002, Revision 3, dated June 1, 2012 (for Model FALCON 2000 airplanes identified in paragraph (c)(2) of this AD), or AFM Supplement APF2-0601, Code 001, Revision 4, dated June 1, 2012 (for Model FALCON 2000EX airplanes identified in paragraph (c)(2) of this AD).

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to Mandatory Continuing Airworthiness Information (MCAI) EASA Airworthiness Directive 2012-0081, dated May 14, 2012, for related information.

Issued in Renton, Washington, on September 25, 2013.
Jeffrey E. Duven,
Acting Manager, Transport Airplane Directorate, Aircraft Certification Service.

[FR Doc. 2013-24216 Filed 10-2-13; 8:45 am]

BILLING CODE 4910-13-P